DEPARTMENT OF JUSTICE

Antitrust Division

Notice Pursuant to the National Cooperative Research and Production Act of 1993—Laser Institute of America/Accredited Standards Committee (ASC) Z136

Notice is hereby given that, on September 13, 2004, pursuant to section 6(a) of the National Cooperative Research and Production Act of 1993, 15 U.S.C. 4301 et seq. (“the Act”), Laser Institute of America (“LIA”), as secretariat to and in conjunction with Accredited Standards Committee (ASC) Z136, has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Laser Institute of America (LIA)/ASC Z136, Orlando, FL. LIA serves as secretariat for Accredited Standards Committee (ASC) Z136, Orlando, FL. The nature and scope of LIA/ASC Z136's standards development activities are: to provide protection against hazards which are created by the use of lasers and optically radiating diodes.

Additional information concerning LIA/ASC Z136 may be obtained from Barbara Sams, Standards Administrator, at (407) 380-1553.

Dorothy B. Fountain,
Deputy Director of Operations, Antitrust Division.

[FR Doc. 04-23517 Filed 10-20-04; 8:45 am]

BILLING CODE 4410-11-M